DEPARTMENT OF ENERGY

Federal Energy Regulatory Commission

[Project Nos. 6904-043, 6903-037]

Battenkill Hydro Associates; Notice of Applications Accepted for Filing and Soliciting Motions To Intervene and Protests

Take notice that the following hydroelectric applications have been filed with the Commission and are available for public inspection.

a. Type of Applications: Subsequent Minor License.

b. Project Nos.: 6904-043, 6903-037.

c. Date filed: January 31, 2024.

d. Applicant: Battenkill Hydro Associates (Battenkill Hydro).

e. Name of Projects: Upper and Middle Greenwich Hydroelectric Projects (Upper Greenwich Project and Middle Greenwich Project).

f. Location: On the Batten Kill in the Village of Greenwich in Washington County, New York.

g. Filed Pursuant to: Federal Power Act 16 U.S.C. 791(a)-825(r).

h. Applicant Contact: Sherri Loon, Coordinator—Operations USA, Kruger Energy, LP, 423 Brunswick Ave., Gardiner, ME 04345; (207) 203-3026; sherri.loon@kruger.com or Lewis Loon, General Manager—Operations and Maintenance USA, Kruger Energy, LP, 423 Brunswick Ave., Gardiner, ME 04345; (207) 203-3027; lewis.loon@kruger.com.

i. FERC Contact: Chris Millard at (202) 502-8256, or christopher.millard@ferc.gov.

j. Deadline for filing motions to intervene and protests: on or before 5:00 p.m. Eastern Daylight Time on November 3, 2025. The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Upper Greenwich Hydroelectric Project (P-6904-043) or Middle Greenwich Hydroelectric Project (P-6903-037).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. The applications have been accepted but are not ready for environmental analysis at this time.

l. The Upper Greenwich Project consists of the following existing facilities: (1) an 11.5-foot-high, 203-foot-long concrete gravity spillway dam topped with 2-foot-high flashboards; (2) a reservoir with a normal water surface area of 20 acres and a gross storage capacity of 70 acre-feet at a normal water surface elevation of 334 feet National Geodetic Vertical Datum 1929 (NGVD29); (3) two 12-foot by 7.5-foot intake gates; (4) a 200-foot-long, 40-foot-wide, and 10-foot-high earthen power canal; (5) 60-foot-wide, 11-foot-high, 1-inch clear trash racks angled at 45 degrees to the flow and toward a 3-foot-wide fish passage sluice; (6) a 53-foot-long, 14-foot-wide, concrete and steel powerhouse containing two turbine-generator units with a rated capacity of 300 kilowatts (kW) each for a total installed capacity of 600 kW; (7) a tailrace channel; (8) a 150-foot-long transmission line; and (9) appurtenant facilities.

The Middle Greenwich Project consists of the following existing facilities: (1) a 10-foot-high, 235-foot-long concrete gravity spillway dam; (2) a 9-acre reservoir with a gross storage capacity of 80 acre-feet at a normal water surface elevation of 318 feet NGVD29; (3) a 150-foot-long, 20-foot-wide, and 10-foot-high power canal; (4) 24-foot-wide, 11-foot-high, 1-inch clear trash racks angled at 45 degrees to the flow and toward a 2.5-foot-wide fish passage sluice; (5) a 15-foot-long by 19.5-foot-wide concrete and steel powerhouse containing one turbine-generator unit with a capacity of 300 kW; (6) a tailrace channel; (7) a 150-foot-long transmission line; and (8) appurtenant facilities.

The Upper and Middle Greenwich projects operate in a run-of-river mode and release a minimum flow to the bypassed reach of 80 cubic feet per second (cfs) and 20 cfs, respectively, or inflow, whichever is less.¹ A 20-cfs attraction flow is conveyed through the fish passage sluice to the bypassed reach at each project. Battenkill Hydro is not proposing any new project facilities or changes to the operation of either project.

¹ Project operation occurred intermittently from 2009 to 2013. Both projects are currently offline and have not operated since June 2013 (see Battenkill Hydro's letter filed November 7, 2022).

From 1999 to 2009, average annual generation at the Upper and Middle Greenwich projects was 146 kilowatt-hours (kWh) and 78 kWh, respectively.

m. A copy of the applications can be viewed on the Commission's website at http://www.ferc.gov, using the “eLibrary” link. Enter the docket number, excluding the last three digits in the docket number field, to access the documents (P-6904 or P-6903). For assistance, contact FERC at FERCOnlineSupport@ferc.gov, or call toll-free, (866) 208-3676 or (202) 502-8659 (TTY).

You may also register online at https://ferconline.ferc.gov/FERCOnline.aspx to be notified via email of new filings and issuances related to these or other pending projects. For assistance, contact FERC Online Support.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the applications directly from the applicant. A copy of any protest or motion to intervene must be served upon each representative of the applicant specified in the particular application.

o. Procedural schedule: The applications will be processed according to the following schedule. Revisions to the schedule will be made as appropriate.

Milestone | Target date
Issue Scoping Notice for comments | October 2025.
Scoping Comments due | November 2025.
Request Additional Information (if necessary) | December 2025.
Issue Notice of Ready for Environmental Analysis | December 2025.

Final amendments to the applications must be filed with the Commission no later than 30 days from the issuance date of the notice of ready for environmental analysis.

Dated: September 4, 2025.
Debbie-Anne A. Reese,
Secretary.

[FR Doc. 2025-17269 Filed 9-8-25; 8:45 am]

BILLING CODE 6717-01-P